DEPARTMENT OF AGRICULTURE

Animal and Plant Health Inspection Service

[Docket No. APHIS-2013-0101]

Notice of Request for Approval of an Information Collection; National Veterinary Services Laboratories Request Forms

AGENCY: Animal and Plant Health Inspection Service, USDA.

ACTION: New information collection; comment request.

SUMMARY: In accordance with the Paperwork Reduction Act of 1995, this notice announces the Animal and Plant Health Inspection Service's intention to request approval of a new information collection concerning the National Veterinary Services Laboratories request forms.

DATES: We will consider all comments that we receive on or before April 11, 2014.

ADDRESSES: You may submit comments by either of the following methods:

• Federal eRulemaking Portal: Go to http://www.regulations.gov/#!documentDetail;D=APHIS-2013-0101-0001.

• Postal Mail/Commercial Delivery: Send your comment to Docket No. APHIS-2013-0101, Regulatory Analysis and Development, PPD, APHIS, Station 3A-03.8, 4700 River Road Unit 118, Riverdale, MD 20737-1238.

Supporting documents and any comments we receive on this docket may be viewed at http://www.regulations.gov/#!docketDetail;D=APHIS-2013-0101 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the National Veterinary Services Laboratories request forms, contact Dr. Nancy Clough, Veterinary Medical Officer, STAS, NVSL, VS, APHIS, 1920 Dayton Road, Ames, IA 50010; (515) 337-7989. For copies of more detailed information on the information collection, contact Mrs. Celeste Sickles, APHIS' Information Collection Coordinator, at (301) 851-2908.

SUPPLEMENTARY INFORMATION:

Title: National Veterinary Services Laboratories Request Forms.

OMB Control Number: 0579-XXXX.

Type of Request: Approval of a new information collection.

Abstract: Under the Animal Health Protection Act (7 U.S.C. 8301 et seq.), the Animal and Plant Health Inspection Service (APHIS) of the U.S. Department of Agriculture (USDA) is authorized, among other things, to carry out activities to detect, control, and eradicate pests and diseases of livestock within the United States. To carry out this mission, APHIS' National Veterinary Services Laboratories (NVSL) safeguard U.S. animal health and contribute to public health by ensuring that timely and accurate laboratory support is provided by their nationwide animal health diagnostic system.

Upon request, NVSL's support activities provide reagents or supplies and training to domestic and foreign diagnostic laboratories, governments, researchers, and private veterinary practitioners. This support service involves information collection activities, including a USDA, APHIS, NVSL Request for Reagents or Supplies Form (Veterinary Services (VS) Form 4-9); an NVSL Contact Information Update Form (VS Form 4-10); and a USDA, APHIS, VS, NVSL Application for Laboratory Training (VS Form 4-11).

We are asking the Office of Management and Budget (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.2489 hours per response.

Respondents: Domestic and foreign diagnostic laboratories (Federal, State, university, or private), researchers (academia, private, government), and private veterinary practitioners.

Estimated annual number of respondents: 1,085.

Estimated annual number of responses per respondent: 3.488.

Estimated annual number of responses: 3,785.

Estimated total annual burden on respondents: 942 hours. (Due to averaging, the total annual burden hours may not equal the product of the annual number of responses multiplied by the reporting burden per response.)

All responses to this notice will be summarized and included in the request for OMB approval. All comments will also become a matter of public record.

Done in Washington, DC, this 3rd day of February 2014.
Kevin Shea,
Administrator, Animal and Plant Health Inspection Service.

[FR Doc. 2014-02760 Filed 2-7-14; 8:45 am]

BILLING CODE 3410-34-P